DEPARTMENT OF HOMELAND SECURITY

Federal Emergency Management Agency

44 CFR Part 67

[Docket No. FEMA-B-7460]

Proposed Flood Elevation Determinations

AGENCY: Federal Emergency Management Agency (FEMA), Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Mitigation Division, Federal Emergency Management Agency, 500 C Street, SW., Washington, DC 20472, (202) 646-2903.

SUPPLEMENTARY INFORMATION: FEMA proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Federal Emergency Management Agency certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | *Elevation in feet (NGVD): Existing | *Elevation in feet (NGVD): Modified
Texas | Bexar County (Uninc. Areas) | San Antonio River | Approximately 500 feet upstream of Rd 3 along River Road | None | *510
|  |  | Just downstream of Roosevelt Avenue | *569 | *579
|  |  | Just upstream of Josephine Street | *660 | *656
*National Geodetic Vertical Datum.
Maps are available for inspection at Vista Verde Building, Suite 420, 233 North Pecos St., San Antonio, TX 78207.
Send comments to the Honorable Nelson W. Wolf, County Judge, Bexar County Courthouse, 100 Dolorosa, Suite 120, San Antonio, TX 78205.

State | City/town/county | Source of flooding | Location | *Elevation in feet (NGVD): Existing | *Elevation in feet (NGVD): Modified
Texas | City of San Antonio, Bexar County | San Antonio River | Approximately 500 feet upstream of Rd 3 along River Road. | None | *510
|  |  | Just downstream of Roosevelt Avenue | *569 | *579
|  |  | Just upstream of Josephine Street | *660 | *656
| City of San Antonio, Bexar County | San Pedro Creek | At the confluence with San Antonio River | *592 | *599
|  |  | At confluence with Apache Creek (above Rail Road). | *617 | *628
|  |  | Approximately 100 feet downstream of West Myrtle Street | None | *656
| City of San Antonio, Bexar County | Symphony Lane Spillflow | At convergence with San Antonio River | *550 | *554
|  |  | Just upstream of East Pyron Avenue | *554 | *558
*National Geodetic Vertical Datum.
Maps are available for inspection at Municipal Plaza, 114 W Commerce St., 7th Floor, San Antonio, TX 78205.
Send comments to The Honorable Ed Garza, Mayor, City Hall, PO Box 839966, San Antonio, TX 78283.

State | City/town/county | Source of flooding | Location | +Elevation in feet (NAVD): Existing | +Elevation in feet (NAVD): Modified
WY | Town of Hulett | Belle Fourche River | 0.75 miles downstream of State Highway 24 | None | +3,747
|  |  | 0.48 miles upstream of State Highway 24 | None | +3,754
+North American Vertical Datum.
Maps are available for inspection at: The Town of Hulett.
Send Comments to: The Honorable John McPartland, Mayor, 123 Hill Street, Hulett, Wyoming 82720.

State | City/town/county | Source of flooding | Location | *Existing elevation in feet (NGVD) +Modified elevation in feet (NAVD): Existing | *Existing elevation in feet (NGVD) +Modified elevation in feet (NAVD): Modified
WY | City of Sundance | Sundance Creek | 1.9 miles downstream of Sundance Pond | None | +4,584
|  |  | Confluence of North Fork and South Fork Sundance Creek. | *4,758 | *4,759
|  | North Fork | Confluence with Sundance Creek | *4,758 | +4,759
|  | Sundance Creed | 800 feet upstream of West Street | *4,804 | +4,799
|  | South Fork | Confluence of North Fork Sundance Creek | *4,758 | +4,759
|  | Sundance Creek | 350 feet upstream of State Highway 90 | None | +4,792
*National Geodetic Vertical Datum.
+North American Vertical Datum.
Maps are available for inspection at: City Hall.
Send Comments to: The Honorable James Miller, Mayor, City of Sundance, 213 Main Street, Sundance, Wyoming 82729.

Flooding source(s) | Location of referenced elevation | *Elevation in feet (NGVD) +Elevation in feet (NAVD): Effective | *Elevation in feet (NGVD) +Elevation in feet (NAVD): Modified | Communities affected
Adams County, Colorado and Incorporated Areas
Basin 4100 | 60 feet upstream of Colorado Boulevard | *5094 | +5095 | Adams County (Uninc. Areas), City of Thorton.
| 300 feet upstream of Thornton Parkway | *5220 | +5223
Bear Gulch | Confluence with Box Elder Creek | None | +5283 | Adams County (Uninc. Areas).
| Approximately 100 feet downstream from Quail Run Mile Road | None | +5536
Bear Gulch Tributary D | Approximately 900 feet upstream of the confluence with Bear Gulch | None | +5410 | Adams County (Uninc. Areas).
| Approximately 400 feet downstream of future Quail Run Road alignment | None | +5440
Bear Gulch Tributary E | Confluence with Bear Gulch | None | +5388 | Adams County (Uninc. Areas).
| 1115 feet upstream from confluence with Bear Gulch | None | +5390
Bear Gulch Tributary G | Confluence with Bear Gulch | None | +5335 | Adams County (Uninc. Areas).
| 320 feet upstream from Quail Run Mile Road | None | +5367
Box Elder Creek | Approximately 130 feet downstream from East 168th Avenue | None | +5054 | Adams County (Uninc. Areas).
| 3000 feet north of the Union Pacific Rail Road | *5513 | +5516
Clear Creek | Confluence with South Platte River | *5105 | +5106 | Adams County (Uninc. Areas).
| At Sheridan Boulevard | *5254 | +5263
Clear Creek North Overflow | Confluence with Clear Creek | *5222 | +5222 | Adams County (Uninc. Areas).
| At Sheridan Boulevard | *5254 | +5263
Coyote Run | Confluence with Box Elder Creek | None | +5394 | Adams County (Uninc. Areas).
| Immediately downstream of US 36 | None | +5512
Hayesmount Creek | Approximately 130 feet downstream from East 168th Avenue | None | +5071 | Adams County (Uninc. Areas).
| Adams/Denver County Line | None | +5234
Hayesmount Creek East Tributary | Confluence with Hayesmount Creek | None | +5190 | Adams County (Uninc. Areas).
| Approximately 5800 feet upstream from East 120th Avenue | None | +5234
Hayesmount Creek West Tributary | Confluence with Hayesmount Creek | None | +5165 | Adams County (Uninc. Areas).
| Approximately 9000 feet upstream from East 128th Avenue | None | +5225
South Platte River | Approximately 130 feet downstream from East 168th Avenue | *4953 | +4956 | Adams County (Uninc. Areas), City of Brighton, City of Commerce City, City of Thorton
| At Franklin Street | *5144 | +5138
* National Geodetic Vertical Datum.
+ National American Vertical Datum.
ADDRESSES:
Unincorporated Areas of Adams County
Maps are available for inspection at 12200 North Pecos Street, Third Floor, Westminster, Colorado 80234
.
Send comments to Commissioner Larry W. Pace, Chairman, Board of County Commissioners, 450 South 4th Avenue, Brighton, Colorado 80601.
City of Brighton
Maps are available for inspection at 22 South 4th Avenue, Brighton, Colorado 80601.
Send comments to the Honorable Jan Pawlowski, Mayor, City of Brighton, 22 South 4th Avenue, Brighton, Colorado 80601.
City of Commerce City
Maps are available for inspection at 5291 East 60th Avenue, Commerce City, Colorado 80022.
Send comments to the Honorable Sean Ford, Mayor, City of Commerce City, 5291 East 60th Avenue, Commerce City, Colorado 80022.
City of Thorton
Maps are available for inspection at Infrastructure Maintenance Center, 12450 Washington Street, Thorton, Colorado 80229.
Send comments to the Honorable Noel Busck, Mayor, City of Thorton, 9500 Civic Center Drive, Thorton, Colorado 80229.
Payne County, Oklahoma and Incorporated Areas
Bell Creek | At confluence with Bell Creek and Cottonwood Creek | None | +854 | Payne County (Uninc. Areas), City of Cushing.
| Intersection of Little Avenue and Bell Creek | None | +917 |
East Boomer Creek | At the intersection of Mceleroy Road and East Boomer Creek | *882 | +878 | Payne County (Uninc. Areas), City of Stillwater.
| At the intersection of West Peacable Acres Road and East Boomer Creek | None | +931 |
Knipe Creek | At confluence with Cimarron River and Knipe Creek | None | +841 | Payne County (Uninc. Areas), Town of Perkins.
| Approximately 11,500 feet upstream the confluence of Knipe Creek and Cimarron River | None | +903 |
Perkins Creek | At the confluence of Perkins Creek and Cimarron River | None | +844 | Payne County (Uninc. Areas), Town of Perkins.
| Intersection of 116th Street and Perkins Creek | None | +916
Stillwater Creek | Intersection of 44th Avenue and Prairie Road | None | +844 | Payne County (Uninc. Areas), City of Stillwater, Town of Ripley.
| Approximately 2,000 feet upstream the confluence of Harrington Creek and Stillwater Creek | *896 | +894 |
West Boomer Creek | At the intersection of West Hall of Fame Avenue and West Boomer Creek | *883 | +882 | Payne County (Uninc. Areas), City of Stillwater.
| At the intersection of West Liberty Lane and West Boomer Creek | None | +916
* National Geodetic Vertical Datum 1929.
+ National American Vertical Datum 1988.
ADDRESSES:
Unincorporated Areas of Payne County
Maps are available for inspection at 315 West 6th Street, Stillwater, OK 74074.
Send comments to Ms. Gloria Hesser, District 2 County Commissioner, 315 West 6th Street, Stillwater, OK 74074.
City of Cushing
Maps are available for inspection at Cushing City Hall, 100 Judy Adams Blvd., Cushing, OK 74023.
Send comments to the Honorable Loren West, Mayor, City of Cushing, Cushing City Hall, Cushing, OK 74023.
City of Stillwater
Maps are available for inspection at Stillwater Municipal Building, 723 S. Lewis, Stillwater, OK 74074.
Send comments to the Honorable Bud Lacy, Mayor, City of Stillwater, 723 S. Lewis St., Stillwater, OK 74076.
Town of Perkins
Maps are available for inspection at City Hall, 110 N. Main, Perkins, OK 74059.
Send comments to the Honorable Mel Miller, Mayor, Town of Perkins, 110 N. Main, Perkins, OK 74059.
Town of Ripely
Maps are available for inspection at 203 S. Ripley Street, Ripley, OK 74062.
Send comments to the Honorable Jay Varble, Mayor, Town of Ripley, 203 S. Ripley Street, Ripley, OK 74062.
Henrico County, Virginia and Incorporated Areas
Allens Branch | Approximately at the confluence with Chickahominy River | None | +197 | Henrico County (Uninc. Areas).
| Approximately 250 feet downstream from the I-295 Ramp | None | +214 |
Chickahominy River | Approximately at Creighton Road | None | +77 | Henrico County (Uninc. Areas).
| Approximately 1900 feet downstream from Shady Grove Road | None | +218 |
Copperas Creek | Approximately at the confluence with Tuckahoe Creek | None | +144 | Henrico County (Uninc. Areas).
| Approximately 150 feet downstream from Waterford Way East | None | +220 |
Copperas Creek Tributary 2 | Approximately at the confluence with Copperas Creek | None | +160 | Henrico County (Uninc. Areas).
| Approximately 2000 feet upstream from Ridgefield Parkway | None | +206 |
Fourmile Creek | Approximately at the confluence with James River | None | +11 | Henrico County (Uninc. Areas).
| Approximately 2000 feet upstream from Doran Road | None | +92 |
Fourmile Creek Tributary 7 | Approximately at the confluence with Fourmile Creek | None | +85 | Henrico County (Uninc. Areas).
| Approximately 775 feet upstream from the Footbridge | None | +88 |
Gillies Creek Tributary 1 | Approximately at the confluence with Gillies Creek | None | +121 | Henrico County (Uninc. Areas).
| Approximately 250 feet downstream from South Kalmia Avenue | None | +154
Harding Branch | Approximately at the confluence with Tuckahoe Creek | None | +148 | Henrico County (Uninc. Areas).
| Approximately 2500 feet upstream from Park Terrace Drive | None | +240
Harding Branch Tributary 1 | Approximately at the confluence with Harding Branch | None | +168 | Henrico County (Uninc. Areas).
| Approximately 1000 feet upstream from the confluence with Harding Branch | None | +171
Heckler Village Tributary 1 | Approximately at the confluence with Gillies Creek | None | +109 | Henrico County (Uninc. Areas).
| Approximately 1100 feet upstream from Colwyck Drive | None | +145
Heckler Village Tributary 2 | Approximately at the confluence with Gillies Creek | None | +138 | Henrico County (Uninc. Areas).
| Approximately 1600 feet upstream from Wynfield Terrace | None | +158
Horsepen Branch | Approximately at the confluence with Upham Brook | None | +174 | Henrico County (Uninc. Areas).
| Approximately 300 feet upstream from Devers Road | None | +218
James River | Approximately 2100 feet southeast of the intersection of Osborne Landing and Kingsland Road | None | +16 | Henrico County (Uninc. Areas).
| Approximately 1250 feet Northwest of the intersection of Stancraft Way and Old Osborne Turnpike | None | +32
Meredith Branch | Approximately at the confluence with Chickahominy River | None | +186 | Henrico County (Uninc. Areas).
| Approximately 500 feet downstream from Broad Meadows Road | None | +230
North Run | Approximately at the confluence with Upham Brook | +117 | +120 | Henrico County (Uninc. Areas).
| Approximately 400 feet upstream from the confluence with Upham Brook | +119 | +120
Rooty Branch | Approximately 600 feet downstream from Nuckols Road | None | +221 | Henrico County (Uninc. Areas).
| Approximately 1800 feet upstream from Nuckols Road | None | +233
Tributary A To Gillies Creek Tributary 1 | Approximately at the confluence with Gillies Creek Tributary 1 | None | +146 | Henrico County (Uninc. Areas).
| Approximately 1200 feet upstream from Yates Lane | None | +158
Tributary A to Gillies Creek Tributary 1 Tributary | Approximately at the confluence with Tributary A to Gillies Creek Tributary 1 | None | +150 | Henrico County (Uninc. Areas).
| Approximately 750 feet south from Nine Mile Road | None | +160
* National Geodetic Vertical Datum.
+ National American Vertical Datum.
ADDRESSES:
Unincorporated Areas of Henrico County
Maps are available for inspection at Henrico West End Government Center, 4301 E. Parham Road, Richmond, VA 23228.
Send comments to Mr. Robert Thompson, Director of Public Works, P.O. Box 27032, Richmond, VA 23273.

(Catalog of Federal Domestic Assistance No. 83.100, “Flood Insurance.”)

Michael Buckley,
Deputy Director, Mitigation Division, Federal Emergency Management Agency, Department of Homeland Security.

[FR Doc. E6-9510 Filed 6-16-06; 8:45 am]

BILLING CODE 9110-12-P